DEPARTMENT OF AGRICULTURE

Submission for OMB Review; Comment Request

December 13, 2018.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), Pamela_Beverly_OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Forest Service

Title: Post-Hurricane Research and Assessment of Agriculture, Forestry, and Rural Communities in the U.S. Caribbean.

OMB Control Number: 0596-0246.

Summary of Collection: The primary authorities for this collection are the National Agricultural Research, Extension, and Teaching Policy Act of 1977, as amended, which authorizes USDA agricultural research, education, and extension programs, and the Forest and Rangeland Renewable Resources Research Act of 1978, which authorizes USDA Forest Service “investigations, experiments, tests, and other activities . . . to obtain, analyze, develop, demonstrate, and disseminate scientific information about protecting, managing, and utilizing forest and rangeland renewable resources in rural, suburban, and urban areas” (Pub. L. 95-307 Sec. 3). Focus groups and interviews will be conducted with a non-probabilistic, purposive sample of individuals, families, and organizations involved in or associated with agriculture, forestry, and rural communities affected by Hurricanes Irma and Maria in the U.S. Caribbean.

Need and Use of the Information: To better understand the effects of Hurricanes Irma and Maria on agriculture, forestry, and rural communities in the U.S. Caribbean and the internal and external factors that affected their vulnerabilities or resilience, U.S. Department of Agriculture (USDA)—Forest Service and Caribbean Climate Hub (CCH), seek Office of Management and Budget approval to conduct focus groups and in-depth interviews to collect information from farmers, forest owners, and other agriculture and forestry community members about their experiences with, preparations for, responses to, and recovery from these storms. This collection provides vital real-time information for ongoing recovery and restoration efforts by USDA and other entities working in Puerto Rico and the U.S. Virgin Islands, as well as valuable lessons learned for other disasters and regions.

Description of Respondents: Individuals or households.

Number of Respondents: 425.

Frequency of Responses: Reporting: Other (one time only).

Total Burden Hours: 226.

Kimble Brown,
Departmental Information Collection Clearance Officer.

[FR Doc. 2018-27410 Filed 12-18-18; 8:45 am]

BILLING CODE 3411-15-P